DEPARTMENT OF HOMELAND SECURITY

Federal Emergency Management Agency

Open Meeting/Conference Call, Board of Visitors for the National Fire Academy

AGENCY: U.S. Fire Administration, Federal Emergency Management Agency, DHS.

ACTION: Notice of open meeting via conference call.

SUMMARY: In accordance with the Federal Advisory Committee Act, the Federal Emergency Management Agency announces the following committee meeting:

Name: Board of Visitors (BOV) for the National Fire Academy.

Date of Meeting: January 18, 2007.

Place: Building H, Room 300, National Emergency Training Center, Emmitsburg, Maryland.

Time: 1:30-3:30 p.m.

Proposed Agenda: Review National Fire Academy Program Activities.

SUPPLEMENTARY INFORMATION: In accordance with section 10 (a) (2) of the Federal Advisory Committee Act, 5 U.S.C. App. 2, the Federal Emergency Management Agency announces that the committee meeting will be open to the public in the Emmitsburg commuting area with seating available on a first-come, first-served basis. The meeting is open to the public; however, teleconference lines are limited. Members of the general public who plan to participate in the meeting should contact the Office of the Superintendent, National Fire Academy, U.S. Fire Administration, 16825 South Seton Avenue, Emmitsburg, MD 21727, (301) 447-1117, on or before January 16, 2007. Dial-in information will be provided to those wishing to participate via telephone.

Minutes of the meeting will be prepared and will be available for public viewing in the Office of the U.S. Fire Administrator, U.S. Fire Administration, Federal Emergency Management Agency, Emmitsburg, Maryland 21727. Copies of the minutes will be available upon request within 60 days after the meeting.

The National Fire Academy Board of Visitors is administered by the U.S. Fire Administration, which is currently part of the Preparedness Directorate of the Department of Homeland Security. In the near future, the U.S. Fire Administration will be transferred to the Federal Emergency Management Agency, also part of the Department of Homeland Security. During this transition, the Federal Emergency Management Agency will continue to support this program.

Dated: December 21, 2006.
Charlie Dickinson,
Acting U.S. Fire Administrator.

[FR Doc. E6-22301 Filed 12-27-06; 8:45 am]

BILLING CODE 9110-17-P